DEPARTMENT OF LABOR

Employment and Training Administration

[TA-W-53,221]

Intermetro Industries, A Division of Emerson Electric Wilkes-Barre, PA; Notice of Revised Determination on Reconsideration Regarding Eligibility To Apply for Alternative Trade Adjustment Assistance

On December 17, 2003, the Department issued a Notice of Affirmative Determination Regarding Application for Reconsideration, applicable to workers of the subject firm. The notice will soon be published in the Federal Register.

The initial investigation determined that workers at the subject firm possessed easily transferable skills.

The reconsideration investigation revealed that the workers possess skills that are not easily transferable. Additional investigation revealed that a significant number of workers in the workers' firm are fifty years of age or older. Competitive conditions within the industry are adverse.

Conclusion

After careful review of the additional facts obtained on reconsideration, I conclude that the requirements of Section 246 of the Trade Act of 1974, as amended, have been met for workers at the subject firm.

In accordance with the provisions of the Act, I make the following certification:

All workers of at Intermetro Industries, A Division of Emerson Electric, Wilkes-Barre, Pennsylvania, who became totally or partially separated from employment on or after October 10, 2002 through November 6, 2005, are eligible to apply for adjustment assistance under Section 223 of the Trade Act of 1974, and are also eligible to apply for alternative trade adjustment assistance under Section 246 of the Trade Act of 1974.

Signed in Washington, DC, this 16th day of January, 2004.
Elliott S. Kushner,
Certifying Officer, Division of Trade Adjustment Assistance.

[FR Doc. 04-3010 Filed 2-10-04; 8:45 am]

BILLING CODE 4510-30-P